ENVIRONMENTAL PROTECTION AGENCY

40 CFR Part 300

[FRL-7526-2]

National Oil and Hazardous Substances Pollution Contingency Plan; National Priorities List Update

AGENCY: Environmental Protection Agency (EPA).

ACTION: Notice of deletion of the Pepe Field Superfund Site (Site) from the National Priorities List.

SUMMARY: The EPA Region II Office announces the deletion of the Pepe Field Superfund Site, located in Boonton, New Jersey from the National Priorities List (NPL). The NPL is appendix B of 40 CFR part 300 which is the National Oil and Hazardous Substances Pollution Contingency Plan (NCP), which EPA promulgated pursuant to section 105 of the Comprehensive Environmental Response, Compensation, and Liability Act of 1980 (CERCLA), as amended. EPA and the State of New Jersey have determined that the Site poses no significant threat to public health or the environment and, therefore, no further remedial measures pursuant to CERCLA are appropriate.

EFFECTIVE DATE: July 11, 2003.

FOR FURTHER INFORMATION CONTACT: Romona Pezzella, Remedial Project Manager; U.S. Environmental Protection Agency; Region II, 290 Broadway, 19th Floor; New York, New York 10007-1866; (212) 637-4385; pezzella.romona@epa.gov.

SUPPLEMENTARY INFORMATION: The site to be deleted from the NPL is: Pepe Field Superfund Site, Boonton, New Jersey.

A Notice of Intent To Delete for this Site was published in the Federal Register on May 6, 2003 (68 FR 23939). The closing date for comments on the Notice of Intent To Delete was June 7, 2003. No comments were received, therefore, EPA has not prepared a Responsiveness Summary.

EPA identifies sites that appear to present a significant risk to public health, welfare, or the environment and it maintains the NPL as the list of those sites. Any site deleted from the NPL remains eligible for Fund-financed remedial actions in the unlikely event that conditions at the site warrant such action. Section 300.425(e)(3) of the NCP states that Fund-financed actions may be taken at sites deleted from the NPL. Deletion of a site from the NPL does not affect responsible party liability or impede agency efforts to recover costs associated with response efforts.

List of Subjects in 40 CFR Part 300

Environmental protection, Air pollution control, Chemicals, Hazardous substances, Hazardous waste, Intergovernmental relations, Penalties, Reporting and recordkeeping requirements, Superfund, Water pollution control, Water supply.

Dated: June 30, 2003.
William J. Muszynski,
Acting Regional Administrator, Region II.

For the reasons set out in the preamble, 40 CFR part 300 is amended as follows:

PART 300—[AMENDED]

1. The authority citation for part 300 continues to read as follows:

Authority: 42 U.S.C. 9601-9657; 33 U.S.C. 1321(c)(2); E.O. 12777, 56 FR 54757, 3 CFR, 1991 Comp., p. 351; E.O. 12580, 52 FR 2923, 3 CFR, 1987 Comp., p. 193.

Appendix B—[Amended]

Appendix B—[Amended]

2. Table 1 of Appendix B to part 300 is amended by removing the entry for the Pepe Field, Boonton, NJ Superfund Site.

[FR Doc. 03-17611 Filed 7-10-03; 8:45 am]

BILLING CODE 6560-50-P